DEPARTMENT OF TRANSPORTATION

National Highway Traffic Safety Administration

23 CFR Part 1331

[Docket No. NHTSA-2001-10917]

RIN 2127-AG-91

Withdrawal of Proposed Rule on State-Issued Driver's Licenses and Comparable Identification Documents

AGENCY: National Highway Traffic Safety Administration (NHTSA), DOT.

ACTION: Withdrawal of proposed rule.

SUMMARY: This document withdraws a proposed rule that was intended to implement the requirements contained in section 656(b) of the Illegal Immigration Reform and Immigrant Responsibility Act of 1996. Section 656(b) of the Act, entitled State-Issued Driver's Licenses and Comparable Identification Documents, provided that a Federal agency could only accept as proof of identity a driver's license or identification document that conformed to specific requirements, in accordance with regulations issued by the Secretary of Transportation. Congress subsequently repealed section 656(b) of the Illegal Immigration Reform and Immigrant Responsibility Act of 1996.

DATES: The proposed rule is withdrawn as of November 7, 2001.

FOR FURTHER INFORMATION CONTACT: Ms. Christine Holdsworth, Acting Chief, Driver Register and Traffic Records Division, NTS-32, NHTSA, 400 Seventh Street, S.W., Washington, D.C. 20590; telephone (202) 366-4800, or Ms. Heidi L. Coleman, Assistant Chief Counsel for General Law, NCC-30, NHTSA, 400 Seventh Street, SW., Washington, DC 20590; telephone (202) 366-1834.

SUPPLEMENTARY INFORMATION: The Omnibus Consolidated Appropriations Act for Fiscal Year 1997, Pub. L. 104-208, was signed into law on September 30, 1996. The Omnibus Act included, as Title VI of Division C, the Illegal Immigration Reform and Immigrant Responsibility Act of 1996 (hereinafter, the “Immigration Reform Act”). The purpose of the Immigration Reform Act was to improve deterrence of illegal immigration into the United States.

Section 656(b) of the Act, entitled State-Issued Driver's Licenses and Comparable Identification Documents, provided that, after October 1, 2000, Federal agencies could not accept driver's licenses, or other comparable identification documents issued by a State, as proof of identity unless the driver's license or identification document conformed to certain requirements.

A. Statutory Requirements

Section 656(b) established three requirements that State-issued driver's licenses or other comparable identification documents had to meet, to be acceptable as proof of identity:

1. Application Process—The application process for the driver's license or identification document was to include the presentation of such evidence of identity as required by regulations promulgated by the Secretary of Transportation, after consultation with the American Association of Motor Vehicle Administrators (AAMVA).

2. Form—The driver's license or identification document was to be in a form consistent with requirements set forth in regulations promulgated by the Secretary of Transportation, after consultation with AAMVA. The form was to contain security features designed to limit tampering, counterfeiting, photocopying, or otherwise duplicating, the driver's license or identification document for fraudulent purposes and to limit the use of the driver's license or identification document by imposters.

3. Social Security Number—The driver's license or identification document was required to contain a social security number that could be read visually or by electronic means, unless the State issuing such driver's license or identification document met certain conditions.

To meet the conditions, the State that did not require the driver's license or identification document to contain a social security number would have had to require every applicant for a driver's license or identification documents to submit his or her social security number. The State would also have had to verify the validity of the social security number with the Social Security Administration (SSA).

B. Proposed Regulations

The Immigration Reform Act required that the Secretary of Transportation issue regulations governing State-issued driver's licenses and comparable identification documents after consulting with the American Association of Motor Vehicle Administrators (AAMVA).

NHTSA consulted with AAMVA, and with interested Federal agencies before issuing a notice of proposed rulemaking (NPRM) on June 17, 1998, 63 FR33220, to implement Section 656(b). The proposed requirements related to such matters as evidence of identity, form and security features, use of the social security number, certification of compliance, and the availability of grants to assist States in meeting these requirements.

The agency received a total of 2,591 comments, the vast majority of which strongly opposed the agency's proposal. The most frequent objections were based on privacy and civil liberty concerns.

Congress also received an overwhelming number of negative comments regarding section 656(b) and the agency's proposal to implement that section. On October 9, 1999, Congress repealed section 656(b) Pub. L. 106-69, 113 Stat. 1027. Accordingly, the proposed rule to implement the requirements contained in section 656(b), published on June 17, 1998, at 63 FR 33220, entitled State-Issued Driver's Licenses and Comparable Identification Documents, is hereby withdrawn.

Issued on: November 1, 2001.
Jeffrey W. Runge,
Administrator.

[FR Doc. 01-28007 Filed 11-6-01; 8:45 am]

BILLING CODE 4910-59-P